DEPARTMENT OF ENERGY

Federal Energy Regulatory Commission

[Docket No. ER00-3637-000]

Nicole Energy Marketing of Illinois, Inc.; Notice of Filing

September 18, 2000.

Take notice that on September 12, 2000, Nicole Energy Marketing of Illinois, Inc. (NEMI), tendered for filing a petition for authorization to sell electricity at market-based rates pursuant to FERC Electric Tariff, Original Sheet No. 1, under which NEMI will engage in wholesale electric power and energy transactions as a marketer.

The Commission has granted open-ended market rate authority to power marketers when it has determined that the market and its affiliates do not have, or have adequately mitigated, market power in generation and transmission; cannot engage in anti-competitive practices through preferential affiliate transactions or reciprocal dealing; and cannot otherwise erect barriers to market entry by competing suppliers.

NEMI requests waiver from Commission Regulations, which have been granted to other power marketers. NEMI also requests blanket approval under Part 34 of the Commission's Regulations of future issuances regarding securities and assumptions of liabilities, subject to objection by an interested party.

NEMI requests that the rate schedule be effective 60 days after filing, or the date the Commission issues an order accepting the rate schedule, whichever occurs first.

Any person desiring to be heard or to protest such filing should file a motion to intervene or protest with the Federal Energy Regulatory Commission, 888 First Street, NE., Washington, DC 20426, in accordance with Rules 211 and 385.214). All such motions and protests should be filed on or before October 3, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-24355 Filed 9-21-00; 8:45 am]

BILLING CODE 6717-01-M